DEPARTMENT OF COMMERCE

National Oceanic and Atmospheric Administration

[RTID 0648-XD115]

Mid-Atlantic Fishery Management Council (MAFMC); Public Meeting

AGENCY: National Marine Fisheries Service (NMFS), National Oceanic and Atmospheric Administration (NOAA), Commerce.

ACTION: Notice; public meeting.

SUMMARY: The MAFMC will hold a public meeting (webinar) of its Mackerel, Squid, and Butterfish (MSB) Advisory Panel. See SUPPLEMENTARY INFORMATION for agenda details.

DATES: The meeting will be held on Friday, July 14, 2023, from 9 a.m. to 12 p.m.

ADDRESSES: Webinar connection information will be posted to the calendar prior to the meeting at www.mafmc.org.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The main purpose of the meeting is for the Advisory Panel (AP) to create Fishery Performance Reports that include advisor input on specifications and management measures for Atlantic mackerel and longfin squid, which have management track stock assessments underway. The AP will also review in-progress analyses being done to evaluate the historical performance of the Scup Gear Restricted Areas (GRAs), which impact squid fishing. Public comments will also be taken.

Special Accommodations

The meeting is physically accessible to people with disabilities. Requests for sign language interpretation or other auxiliary aid should be directed to Shelley Spedden, (302) 526-5251, at least 5 days prior to the meeting date.

Authority: 16 U.S.C. 1801 et seq.

Dated: June 26, 2023.
Rey Israel Marquez,
Acting Deputy Director, Office of Sustainable Fisheries, National Marine Fisheries Service.

[FR Doc. 2023-13874 Filed 6-28-23; 8:45 am]

BILLING CODE 3510-22-P